DEPARTMENT OF TRANSPORTATION

Federal Aviation Administration

14 CFR Part 39

[Docket No. FAA-2014-0530; Directorate Identifier 2014-NM-062-AD; Amendment 39-18057; AD 2014-26-06]

RIN 2120-AA64

Airworthiness Directives; ATR—GIE Avions de Transport Régional Airplanes

AGENCY: Federal Aviation Administration (FAA), Department of Transportation (DOT).

ACTION: Final rule.

SUMMARY: We are adopting a new airworthiness directive (AD) for certain ATR—GIE Avions de Transport Régional Model ATR42-500 airplanes, and Model ATR72-212A airplanes. This AD was prompted by a report that, during an inspection of an airplane on the production line, interference was detected between the electrical harness and a bonding lead due to an incorrect installation of the affected bonding lead. This AD requires a detailed inspection for damage or incorrect routing of the bonding lead routing above the 120VU shelf, and if any damage or incorrect routing is found, repairing damage or modifying the bonding lead routing. We are issuing this AD to detect and correct installation of the bonding lead, which could cause arcing and chafing, and could possibly result in an uncontrolled fire.

DATES: This AD becomes effective February 25, 2015.

The Director of the Federal Register approved the incorporation by reference of certain publications listed in this AD as of February 25, 2015.

ADDRESSES: You may examine the AD docket on the Internet at http://www.regulations.gov/#!docketDetail;D=FAA-2014-0530 or in person at the Docket Management Facility, U.S. Department of Transportation, Docket Operations, M-30, West Building Ground Floor, Room W12-140, 1200 New Jersey Avenue SE., Washington, DC.

For service information identified in this AD, contact ATR—GIE Avions de Transport Régional, 1, Allée Pierre Nadot, 31712 Blagnac Cedex, France; telephone +33 (0) 5 62 21 62 21; fax +33 (0) 5 62 21 67 18; email continued.airworthiness@atr.fr; Internet http://www.aerochain.com. You may view this referenced service information at the FAA, Transport Airplane Directorate, 1601 Lind Avenue SW., Renton, WA. For information on the availability of this material at the FAA, call 425-227-1221.

FOR FURTHER INFORMATION CONTACT: Tom Rodriguez, Aerospace Engineer, International Branch, ANM-116, Transport Airplane Directorate, FAA, 1601 Lind Avenue SW., Renton, WA 98057-3356; telephone 425-227-1137; fax 425-227-1149.

SUPPLEMENTARY INFORMATION:

Discussion

We issued a notice of proposed rulemaking (NPRM) to amend 14 CFR part 39 by adding an AD that would apply to certain ATR—GIE Avions de Transport Régional Model ATR42-500 airplanes, and Model ATR72-212A airplanes. The NPRM published in the Federal Register on August 13, 2014 (79 FR 47390).

The European Aviation Safety Agency (EASA), which is the Technical Agent for the Member States of the European Community, has issued Airworthiness Directive 2014-0056, dated March 7, 2014 (referred to after this as the Mandatory Continuing Airworthiness Information, or “the MCAI”), to correct an unsafe condition for certain ATR—GIE Avions de Transport Régional Model ATR42-500 airplanes, and Model ATR72-212A airplanes. The MCAI states:

During inspection of an aeroplane on the production line, interference was detected between electrical harnesses (2M-2S-6M) and a bonding lead, located in zone 214, positioned above and forward of the 120VU shelf. Subsequent investigation revealed that the interference was a result of an incorrect installation of the affected bonding lead.

This condition, if not detected and corrected, could lead to arcing and chafing, possibly resulting in an uncontrolled fire.

To address this potential unsafe condition, ATR issued Service Bulletin (SB) ATR42-92-0025 and SB ATR72-92-1034, as applicable to aeroplane model, to provide inspection instructions.

For the reasons described above, this [EASA] AD requires a one-time [detailed] inspection [for damage or incorrect routing of the bonding lead routing above the 120VU shelf] of the electrical harness 2M-2S-6M in zone 214 and, depending on findings, accomplishment of corrective action(s) [repairing damage or modifying the bonding lead routing].

You may examine the MCAI in the AD docket on the Internet at http://www.regulations.gov/#!documentDetail;D=FAA-2014-0530-0002.

Comments

We gave the public the opportunity to participate in developing this AD. We received no comments on the NPRM (79 FR 47390, August 13, 2014) or on the determination of the cost to the public.

Clarification of Corrective Actions

In paragraph (h) of the NPRM (79 FR 47390, August 13, 2014), we specify modifying the bonding lead routing if any damage or incorrect routing is found and we refer to ATR Service Bulletin ATR42-92-0025, dated November 7, 2013; and ATR Service Bulletin ATR72-92-1034, dated November 7, 2013; as the appropriate sources of service information. However, ATR Service Bulletin ATR42-92-0025, dated November 7, 2013; and ATR Service Bulletin ATR72-92-1034, dated November 7, 2013, only provide corrective action if incorrect routing is found. Therefore, operators would have to contact the FAA for corrective action if any damage is found.

We have re-designated paragraph (h) of the NPRM (79 FR 47390, August 13, 2014) as paragraph (h)(1) of this AD. In paragraph (h)(1) of this AD, we specify modifying the bonding lead routing if any incorrect routing is found, in accordance with ATR Service Bulletin ATR42-92-0025, dated November 7, 2013; or ATR Service Bulletin ATR72-92-1034, dated November 7, 2013. We have also added paragraph (h)(2) to this AD to specify doing a repair if any damage is found, in accordance with a method approved by the Manager, International Branch, ANM-116, Transport Airplane Directorate, FAA.

Conclusion

We reviewed the relevant data and determined that air safety and the public interest require adopting this AD with the change described previously and except for minor editorial changes. We have determined that these minor changes:

• Are consistent with the intent that was proposed in the NPRM (79 FR 47390, August 13, 2014) for correcting the unsafe condition; and

• Do not add any additional burden upon the public than was already proposed in the NPRM (79 FR 47390, August 13, 2014).

Costs of Compliance

We estimate that this AD affects 5 airplanes of U.S. registry.

We also estimate that it will take about 2 work-hours per product to comply with the basic requirements of this AD. The average labor rate is $85 per work-hour. Required parts will cost about $0 per product. Based on these figures, we estimate the cost of this AD on U.S. operators to be $850, or $170 per product.

In addition, we estimate that any necessary follow-on actions will take about 2 work-hours and require parts costing $0, for a cost of $170 per product. We have no way of determining the number of aircraft that might need this action.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2014-0530; or in person at the Docket Management Facility between 9 a.m. and 5 p.m., Monday through Friday, except Federal holidays. The AD docket contains this AD, the regulatory evaluation, any comments received, and other information. The street address for the Docket Operations office (telephone 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2014-26-06 ATR—GIE Avions de Transport Régional: Amendment 39-18057. Docket No. FAA-2014-0530; Directorate Identifier 2014-NM-062-AD.

(a) Effective Date

This AD becomes effective February 25, 2015.

(b) Affected ADs

None.

(c) Applicability

This AD applies to ATR—GIE Avions de Transport Régional airplanes, certificated in any category, as identified in paragraph (c)(1) and (c)(2) of this AD.

(1) Model ATR42-500 airplanes, manufacturer serial numbers 669 through 1005 inclusive.

(2) Model ATR72-212A airplanes, manufacturer serial numbers 773, 774, 776 through 1094 inclusive, 1096 through 1099 inclusive, and 1101.

(d) Subject

Air Transport Association (ATA) of America Code 92, Electrical Routing.

(e) Reason

This AD was prompted by a report that, during an inspection of an airplane on the production line, interference was detected between the electrical harness and a bonding lead due to an incorrect installation of the affected bonding lead. We are issuing this AD to detect and correct installation of the bonding lead, which could cause arcing and chafing, and could possibly result in an uncontrolled fire.

(f) Compliance

Comply with this AD within the compliance times specified, unless already done.

(g) Inspection

Within 1,000 flight hours after the effective date of this AD: Do a detailed inspection of the bonding lead routing above the 120VU shelf for damage (i.e., wire chafing, evidence of burning) or incorrect routing, in accordance with the Accomplishment Instructions of ATR Service Bulletin ATR42-92-0025, dated November 7, 2013 (for Model ATR42-500 airplanes); or ATR Service Bulletin ATR72-92-1034, dated November 7, 2013 (for Model ATR72-212A airplanes).

(h) Corrective Actions

(1) If, during the inspection required by paragraph (g) of this AD, any incorrect routing is found: Before further flight, modify the bonding lead routing above the 120VU shelf, in accordance with the Accomplishment Instructions of ATR Service Bulletin ATR42-92-0025, dated November 7, 2013 (for Model ATR42-500 airplanes); or ATR Service Bulletin ATR72-92-1034, dated November 7, 2013 (for Model ATR72-212A airplanes).

(2) If, during the inspection required by paragraph (g) of this AD, any damage (i.e., wire chafing, evidence of burning) is found: Before further flight, repair using a method approved by the Manager, International Branch, ANM-116, Transport Airplane Directorate, FAA.

(i) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue SW., Renton, WA 98057-3356; telephone 425-227-1137; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the European Aviation Safety Agency (EASA); or ATR—GIE Avions de Transport Régional's EASA Design Organization Approval (DOA). If approved by the DOA, the approval must include the DOA-authorized signature.

(j) Related Information

Refer to Mandatory Continuing Airworthiness Information (MCAI) European Aviation Safety Agency Airworthiness Directive 2014-0056, dated March 7, 2014, for related information. This MCAI may be found in the AD docket on the Internet at http://www.regulations.gov/#!documentDetail;D=FAA-2014-0530-0002.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) ATR Service Bulletin ATR42-92-0025, dated November 7, 2013.

(ii) ATR Service Bulletin ATR72-92-1034, dated November 7, 2013.

(3) For service information identified in this AD, contact ATR—GIE Avions de Transport Régional, 1, Allée Pierre Nadot, 31712 Blagnac Cedex, France; telephone +33 (0) 5 62 21 62 21; fax +33 (0) 5 62 21 67 18; email continued.airworthiness@atr.fr; Internet http://www.aerochain.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on December 19, 2014.
Michael Kaszycki,
Acting Manager, Transport Airplane Directorate, Aircraft Certification Service.

[FR Doc. 2014-30914 Filed 1-20-15; 8:45 am]

BILLING CODE 4910-13-P